ENVIRONMENTAL PROTECTION AGENCY

40 CFR Part 81

[CA 082-FOAb; FRL-7397-6]

Withdrawal of Direct Final Determination of Attainment of the 1-Hour Ozone Standard for San Diego County, CA

AGENCY: Environmental Protection Agency (EPA).

ACTION: Withdrawal of direct final rule.

SUMMARY: On August 23, 2002 (67 FR 54580), EPA published a direct final determination that the San Diego area had attained the 1-hour ozone air quality standard by the deadline required by the Clean Air Act. The direct final action was published without prior proposal because EPA anticipated no adverse comment. The direct final rule stated that if adverse comments were received by September 23, 2002, EPA would publish a timely withdrawal in the Federal Register. EPA received a timely adverse comment and is, therefore, withdrawing the direct final approval. Elsewhere in this issue EPA addresses the comments in a final action based on the parallel proposal also published on August 23, 2002 (67 FR 54601). As stated in the parallel proposal, EPA will not institute a second comment period on this action.

DATES: The direct final rule published on August 23, 2002 (67 FR 54580), is withdrawn as of October 23, 2002.

FOR FURTHER INFORMATION CONTACT: Dave Jesson, EPA Region IX, (415) 972-3957 or jesson.david@epa.gov.

List of Subjects in 40 CFR Part 81

Environmental protection, Air pollution control, National parks, Wilderness areas.

Dated: October 9, 2002.
Alexis Strauss,
Acting Regional Administrator, Region IX.

[FR Doc. 02-26989 Filed 10-22-02; 8:45 am]

BILLING CODE 6560-50-P